FEDERAL FINANCIAL INSTITUTIONS EXAMINATION COUNCIL

[Docket No. AS24-16]

Appraisal Subcommittee; Notice of Meeting; Cancellation

AGENCY: Appraisal Subcommittee of the Federal Financial Institutions Examination Council.

ACTION: Notice of meeting; cancellation.

The ASC Meeting, which was published in accordance with section 1104(b) of title XI of the Financial Institutions Reform, Recovery, and Enforcement Act of 1989, as amended, (12 U.S.C. 3333(b)) at 89 FR 72841, September 6, 2024 and scheduled for Wednesday, September 11, 2024 at 10:00 a.m. ET, is cancelled.

Loretta Schuster,
Management & Program Analyst.

[FR Doc. 2024-20600 Filed 9-10-24; 8:45 am]

BILLING CODE 6700-01-P